DEPARTMENT OF ENERGY

Federal Energy Regulatory Commission

[Project No. 14108-000]

Western Minnesota Municipal Power Agency; Notice of Preliminary Permit Application Accepted for Filing and Soliciting Comments, Motions To Intervene, and Competing Applications

On March 8, 2011, Western Minnesota Municipal Power Agency (WMMPA) filed an application, pursuant to section 4(f) of the Federal Power Act, proposing to study the feasibility of a hydropower project at the U.S. Army Corps of Engineers' (Corps) Mississippi River Lock and Dam #15 structure located on the Mississippi River, near the Township of Davenport, in Scott County, Iowa. The Mississippi Lock and Dam No. 15 is owned by the United States government and operated by the U.S. Army Corps of Engineers. The sole purpose of a preliminary permit, if issued, is to grant the permit holder priority to file a license application during the permit term. A preliminary permit does not authorize the permit holder to perform any land-disturbing activities or otherwise enter upon lands or waters owned by others without the owner's express permission.

WMMPA's proposed Mississippi Lock and Dam #15 Project No. 14108 would consist of: (1) A 350-foot-long by 300-foot-wide intake channel; (2) a 250-foot-long by 300-foot-wide tailrace channel; (3) a new 190-foot-long by 280-foot-wide by 60-foot-high concrete powerhouse; (4) six new pit-type axial flow turbine-generators units with a combined capacity of 33.8 megawatts; (5) a new 9,700-foot-long, 69-kilovolt transmission line; and (6) appurtenant facilities. The project would have an estimated annual generation of 230 gigawatt-hours.

Applicant Contact: Mr. Raymond J. Wahle, P.E., Missouri River Energy Services, 3724 W. Avera Drive, Sioux Falls, SD 57109; (605) 330-6963.

FERC Contact: Tyrone A. Williams, (202) 502-6331.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at 7fnl; http://www.ferc.gov/docs-filing/elibrary.asp. Enter the docket number (P-14108-000) in the docket number field to access the document. For assistance, contact FERC Online Support.

Dated: April 26, 2011.
Kimberly D. Bose,
Secretary.

[FR Doc. 2011-10539 Filed 4-29-11; 8:45 am]

BILLING CODE 6717-01-P